DEPARTMENT OF THE INTERIOR

National Park Service

Notice of Intent To Repatriate Cultural Items in the Possession of the Denver Art Museum, Denver, CO

AGENCY: National Park Service.

ACTION: Notice.

Notice is hereby given under the Native American Graves Protection and Repatriation Act, 43 CFR 10.10 (a)(3), of the intent to repatriate cultural items in the possession of the Denver Art Museum, Denver, CO which meet the definition of “object of cultural patrimony” under Section 2 of the Act.

The five cultural items are a Motoki Society buffalo headdress bundle consisting of a parfleche and a cap made of bison fur with horns; a Motoki Society belt constructed from a bison tail; a Dog Society bundle consisting of parfleche and a feather headdress, the headdress has a leather cap and trailer with feathers (possibly hawk) attached; a Dog Society headdress which consists of a separate head piece and trailer or sash; and a Dog Society bundle consisting of a parfleche, dog skin sash, and a stick rattle covered with red flannel.

The Motoki Society buffalo headdress bundle was in the keeping of a society member named Black Faced Woman until 1938, when her son, Jack Low Horn, sold this bundle to Madge Hardin Walters. In 1939, Walters sold the bundle to the Denver Art Museum where it was accessioned as 1939.127. Oral traditions of the descendants of Black Faced Woman state that she died in 1946.

The Motoki Society belt is a component of a Motoki Society buffalo headdress bundle which was in the keeping of a society member named Handsome Woman until her death in early 1938. In June 1938, Handsome Woman's daughter, Mrs. Strangling Wolf, sold the bundle to Madge Hardin Walters. In 1939, Walters sold the bundle to the Denver Art Museum where it was accessioned as 1939.68. In 1948, this bundle was exchanged to the Peabody Museum of Archaeology and Ethnology, Harvard University, Cambridge, MA, but the belt was retained by the Denver Art Museum.

In 1939, the Dog Society bundle was sold by its keeper, a citizen of the Piegan Nation named Bull Plume, to Percy Creighton, a citizen of the Blood Tribe. In April 1939, Creighton sold the headdress bundle to Madge Hardin Walters. In 1940, Walters sold this bundle to the Denver Art Museum where it was accessioned as 1940.157.

In 1937, the Dog Society headdress was in the keeping of an unnamed woman who was probably a member of the Dog Society until her death in March or April of 1937. In April 1937, a citizen of the Blood Tribe named Big Sorrel Horse acquired the headdress and sold it to Madge Hardin Walters. In 1938, Walters sold this headdress to the Denver Art Museum, where it was accessioned as 1938.142.

In 1938, the Dog Society sash bundle was sold by a man named Running Weasel to Percy Creighton, and that same year Creighton sold this bundle to Madge Hardin Walters. In January 1939, Walters sold this Dog Society sash bundle to the Denver Art Museum where it was accessioned as 1939.124. Creighton's correspondence to Walters contains the statement that the Dog Society wished to retain the bundle for society usage, but Running Weasel sold it anyway.

Denver Art Museum records show that the above five cultural items originated from two societies of the Blood Tribe during the 1930s. Consultation in 1998 with representatives and religious leaders of the Blood Tribe confirm the identifications of the cultural items as originating from the two societies of the tribe. The Blood Tribe is one of four tribes comprising the Blackfoot Confederacy, which also includes the Blackfeet Nation, the Piegan Nation, and the Siksika Nation. The present-day Blackfoot Confederacy is descended from the four tribes of the Blackfoot Confederacy as it existed during the 1930s.

The Blackfeet Nation, acting on behalf of the Blackfoot Confederacy, submitted a claim to the Denver Art Museum containing evidence showing that society organizations hold communal title to bundles which are ritually transferred from one keeper to the next. Denver Art Museum's analysis of the records of transactions showed that the individuals who sold each of the above five cultural items were acting as individuals who lacked authority to alienate these communally-owned cultural items.

Based on the above mentioned information, officials of the Denver Art Museum have determined that, pursuant to 43 CFR 10.2 (d)(4), these five cultural items have ongoing historical, traditional, and cultural importance central to the tribe itself, and could not have been alienated, appropriated, or conveyed by any individual and were considered inalienable at the time the objects were separated from the group. Officials of the Denver Art Museum have also determined that, pursuant to 43 CFR 10.2 (e), there is a relationship of shared group identity which can be reasonably traced between these items and the Blackfeet Nation on behalf of the Blackfoot Confederacy (Blackfeet Nation, Piegan Nation, Blood Tribe, and Siksika Nation).

This notice has been sent to officials of the Blackfeet Nation and the Blackfoot Confederacy (Blackfeet Nation, Piegan Nation, Blood Tribe, and Siksika Nation). Representatives of any other Indian tribe that believes itself to be culturally affiliated with these objects should contact Nancy J. Blomberg, Curator of Native Arts, Denver Art Museum, 100 West 14th Avenue Parkway, Denver, CO 80204; telephone: (720) 913-0161 before March 31, 2000. Repatriation of these objects to the Blackfeet Nation on behalf of the Blackfoot Confederacy (Blackfeet Nation, Piegan Nation, Blood Tribe, and Siksika Nation) may begin after that date if no additional claimants come forward.

Dated: February 24, 2000.
Francis P. McManamon,
Departmental Consulting Archeologist, Manager, Archeology and Ethnography Program.

[FR Doc. 00-4829 Filed 2-29-00; 8:45 am]

BILLING CODE 4310-70-F